DEPARTMENT OF ENERGY

International Energy Agency Meeting

AGENCY: Department of Energy.

ACTION: Notice of meeting.

SUMMARY: The Industry Advisory Board (IAB) to the International Energy Agency (IEA) will meet on June 26, 2002, at the headquarters of the IEA in Paris, France in connection with a meeting of the IEA's Standing Group on Emergency Questions (SEQ).

FOR FURTHER INFORMATION CONTACT: Samuel M. Bradley, Assistant General Counsel for International and National Security Programs, Department of Energy, 1000 Independence Avenue, SW., Washington, DC 20585, 202-586-6738.

SUPPLEMENTARY INFORMATION: In accordance with section 252(c)(1)(A)(i) of the Energy Policy and Conservation Act (42 U.S.C. 6272(c)(1)(A)(i)) (EPCA), the following notice of meeting is provided:

A meeting of the Industry Advisory Board (IAB) to the International Energy Agency (IEA) will be held at the headquarters of the IEA, 9, rue de la Fédération, Paris, France, on June 26, 2002, beginning at approximately 8:30 a.m. The purpose of this notice is to permit attendance by representatives of U.S. company members of the IAB at a meeting of the IEA's Standing Group on Emergency Questions (SEQ), which is scheduled to be held at the IEA on June 26, beginning at 9:00 a.m., including a preparatory encounter among company representatives from approximately 8:30 a.m. to 9:00 a.m.

The Agenda for the preparatory encounter among company representatives is to elicit views regarding items on the SEQ's Agenda. The Agenda for the SEQ meeting is under the control of the SEQ. It is expected that the SEQ will adopt the following Agenda:

1. Adoption of the Agenda

2. Approval of the Summary Record of the 104th Meeting

3. Emergency Response Training and Simulation Exercise

—Report and Evaluation of the Emergency Response Training and Simulation Exercise 2002 (ERE 2), Phases 1 and 2

—Plans for Phase 3

4. The SEQ Program of Work for 2003-2004

—Proposal for Study on Oil Demand Restraint in Transport in the Context of Emergency Response

5. Transition from CERM (Coordinated Emergency Response Measures) to IEP (International Energy Program)

6. Update on Compliance with IEP Stockholding Commitments

7. IEA Reporting Procedures

—Emergency Reserve and Net Import Situation of IEA Countries on April 1, 2002

—Monthly Oil Statistics—April 2002

—Oil Market Transparency Initiatives

8. The Current Oil Market Situation

—Oral Report by the Secretariat

9. Policy and Legislative Developments in Member Countries

—Japan

—Finland

—Others

10. Report on Developments in Non-Member Countries and International Organizations

—Recent activities of ACOMES

—Oil Stockholding Seminar in Southeastern Europe

—Preparation for a Joint IEA/China Seminar on Oil Stocks and Emergency Response

—Others

11. Current IAB Activities

—Oral Report by the IAB Chairman

12. Other Emergency Response Activities

—Results of the Oil Stock Maximum Drawdown Capacity Questionnaire

—Results of the Communication Test of Spring 2002

13. Emergency Response Reviews of IEA Countries

—Revised Schedule of Emergency Response Reviews for 2002-2003

14. Other Documents for Information

—Emergency Reserve Situation of IEA Candidate Countries on April 1, 2002

—BPFC (Base Period Final Consumption) 2Q2000/1Q2002

—QOF—2Q2002

—Panel of Arbitrators: Country List

—IEA Dispute Settlement Center : Panel of Arbitrators

—Addendum to Re-issue of Emergency Management Manual

—Update of Emergency Contacts List

15. Discussion on the Initial Contingency Response Plan

16. Other Business

—Dates of Next Meetings:

—November 12-15, 2002

—March 18-20, 2003

As provided in section 252(c)(1)(A)(ii) of the Energy Policy and Conservation Act (42 U.S.C. 6272(c)(1)(A)(ii)), this meeting is open only to representatives of members of the IAB and their counsel; representatives of members of the SEQ; representatives of the Departments of Energy, Justice, and State, the Federal Trade Commission, the General Accounting Office, Committees of Congress, the IEA, and the European Commission; and invitees of the IAB, the SEQ, or the IEA.

Issued in Washington, DC, June 13, 2002.
Eric J. Fygi,
Deputy General Counsel.

[FR Doc. 02-15421 Filed 6-18-02; 8:45 am]

BILLING CODE 6450-01-P